DEPARTMENT OF ENERGY

Federal Energy Regulatory Commission

Combined Notice of Filings #1

July 11, 2005.

Take notice that the Commission received the following electric rate filings:

Docket Numbers: ER01-373-002.

Applicants: Tiger Natural Gas, Inc.

Description: Tiger Natural Gas Inc. submits petition for acceptance of initial rate schedule, waivers, and blanket authority to engage in wholesale and retail electric power and energy transaction as a marketer.

Filed Date: 06/28/2005.

Accession Number: 20050708-0190.

Comment Date: 5 p.m. eastern time on Tuesday, July 19, 2005.

Docket Numbers: ER01-389-003.

Applicants: Calumet Energy Team, LLC.

Description: Calumet Energy Team, LLC (CET) submits notification of certain changes in the characteristics relied upon to grant market-based rate authority to CET and revised tariff sheets to incorporate housekeeping changes.

Filed Date: 06/30/2005.

Accession Number: 20050707-0239.

Comment Date: 5 p.m. eastern time on Thursday, July 21, 2005.

Docket Numbers: ER01-1527-008; ER01-1529-008.

Applicants: Nevada Power Company; Sierra Pacific Power Company

Description: Nevada Power Company and Sierra Pacific Power Company submit an informational filing regarding change in status reporting obligation.

Filed Date: 06/30/2005.

Accession Number: 20050707-0240.

Comment Date: 5 p.m. eastern time on Thursday, July 21, 2005.

Docket Numbers: ER02-2330-037.

Applicants: New England Power Pool Participants Committee; ISO New England Inc.

Description: New England Power Pool Participants Committee and ISO New England Inc., pursuant to the Commission's order issued 12/21/04 (109 FERC ¶ 61,322 (2004)), submit a compliance filing addressing the plans and proposed timetable for implementing the special case nodal pricing.

Filed Date: 06/30/2005.

Accession Number: 20050708-0168.

Comment Date: 5 p.m. eastern time on Thursday, July 21, 2005.

Docket Numbers: ER03-345-005.

Applicants: New England Power Pool Participants Committee.

Description: ISO New England Inc submits its semi-annual status report on load response programs.

Filed Date: 06/30/2005.

Accession Number: 20050707-0241.

Comment Date: 5 p.m. eastern time on Thursday, July 21, 2005.

Docket Numbers: ER04-1174-004.

Applicants: Xcel Energy Operating Companies.

Description: Xcel Energy Services Inc on behalf of its operating company affiliates, Public Service Company of Colorado and Southwestern Public Service Company submits revised tariff sheets in compliance with the Commission's 5/19/05 order, 111 FERC ¶ 61,230 (2005).

Filed Date: 06/30/2005.

Accession Number: 20050708-0185.

Comment Date: 5 p.m. eastern time on Thursday, July 21, 2005.

Docket Numbers: ER05-1186-000.

Applicants: Oklahoma Gas & Electric Company.

Description: Oklahoma Gas and Electric Company submits First Revised Rate Schedule FERC 146, certificate of concurrence regarding an agreement between Oklahoma Municipal Power Authority and Oklahoma Gas and Electric Company regarding credit for facilities and charges for direct assignment facilities, and attachment A, B and C.

Filed Date: 06/30/2005.

Accession Number: 20050706-0173.

Comment Date: 5 p.m. eastern time on Thursday, July 21, 2005.

Docket Numbers: ER05-1187-000.

Applicants: NorthWestern Energy.

Description: NorthWestern Corporation d/b/a NorthWestern Energy submits a notice of cancellation of its Service Agreement 4-SD under its FERC Electric Tariff, Original Volume No. 1 (SD), NorthWestern Energy's Rate Schedule WS-1.

Filed Date: 06/30/2005.

Accession Number: 20050706-0150.

Comment Date: 5 p.m. eastern time on Thursday, July 21, 2005.

Docket Numbers: ER05-1188-000.

Applicants: Midwest Energy, Inc.

Description: Midwest Energy, Inc. submits a notice of cancellation of FERC Rate Schedule 19, an Electric Power, Transmission and Service Contract between Midwest Energy and the Kansas Electric Power Cooperative, Inc.

Filed Date: 06/30/2005.

Accession Number: 20050706-0148.

Comment Date: 5 p.m. eastern time on Thursday, July 21, 2005.

Docket Numbers: ER05-1191-000.

Applicants: Union Power Partners, L.P.

Description: Union Power Partners LP submits revisions to its FERC Electric Tariff Original Volume No. 1 by removing Original First Revised Sheet 2, which is the statement of policy and code of conduct with respect to the relationship between Union Power and Tampa Electric Company.

Filed Date: 06/30/2005.

Accession Number: 20050708-0175.

Comment Date: 5 p.m. eastern time on Thursday, July 21, 2005.

Docket Numbers: ER05-1146-001.

Applicants: Shiloh I Wind Project LLC.

Description: Shiloh I Wind Project LLC submits a revision to its original application filed on 6/24/05 in ER05-1146-000.

Filed Date: 06/30/2005.

Accession Number: 20050708-0189.

Comment Date: 5 p.m. eastern time on Thursday, July 21, 2005.

Docket Numbers: ER05-513-002.

Applicants: PJM Interconnection L.L.C.

Description: PJM Interconnection, L.L.C. Transmission Owners, acting through the PJM and West Transmission Owners, submits revisions toi the PJM Open Access Transmission Tariff in compliance with the Commission's 5/31/05 order, 111 FERC ¶ 61,308 (2005).

Filed Date: 06/30/2005.

Accession Number: 20050708-0186.

Comment Date: 5 p.m. eastern time on Thursday, July 21, 2005.

Docket Numbers: ER05-651-002.

Applicants: Southwest Power Pool, Inc.

Description: Southwest Power Pool, Inc. submits information relating to its 5/17/05 filing of an executed large generator interconnection agreement between SPP, FPL Energy Cowboy Wind, LLC and Public Service Company of Oklahoma.

Filed Date: 06/30/2005.

Accession Number: 20050707-0135.

Comment Date: 5 p.m. eastern time on Thursday, July 21, 2005.

Docket Numbers: ER05-665-002.

Applicants: Barrick Goldstrike Mines Inc.

Description: Barrick Goldstrike Mines Inc. submits an amendment to its 4/26/05 filing in response to the Deficiency Letter issued by FERC on 6/23/05.

Filed Date: 07/06/2005.

Accession Number: 20050708-0200.

Comment Date: 5 p.m. eastern time on Wednesday, July 18, 2005.

Docket Numbers: ER05-1086-001.

Applicants: ISO New England Inc.

Description: ISO New England, Inc submits an amendment to its 6/7/05 filing in Docket No. ER05-1086-000.

Filed Date: 06/29/2005.

Accession Number: 20050708-0188.

Comment Date: 5 p.m. eastern time on Wednesday, July 20, 2005.

Docket Numbers: ER95-1528-012; ER96-1088-037; ER01-2659-006; ER02-2199-004; ER03-54-004; ER03-55-004; ER03-56-004; ER96-1858-017; ER03-674-004; ER99-3420-006; ER99-1936-005; ER01-1114-005; ER97-2758-012; ER05-89-005.

Applicants: Wisconsin Public Service Corporation; WPS Power Development, LLC and WPS Energy Services, Inc.; Combined Locks Energy Center, LLC; WPS Empire State, Inc.; WPS Beaver Falls Generation, LLC; WPS Niagara Generation, LLC; WPS Syracuse Generation, LLC; Mid-American Power, LLC; Quest Energy, LLC; Sunbury Generation, LLC; WPS Canada Generation, Inc. and WPS New England Generation, Inc.; WPS Westwood Generation, LLC; Advantage Energy, Inc.; Upper Peninsula Power Company.

Description: WPS Resources Corporation, on behalf of Wisconsin Public Service Corporation and its other subsidiaries listed above, submit a notice of change in status for market-based rate authority.

Filed Date: 06/30/2005.

Accession Number: 20050708-0184.

Comment Date: 5 p.m. eastern time on Thursday, July 21, 2005.

Docket Numbers: ER96-3107-017.

Applicants: SE Holdings, LLC.

Description: Strategic Energy, LLC submits the market power update regarding SE Holdings, LLC in compliance with the Commission's order issued 5/31/05, 111 FERC ¶ 61,295 (2005).

Filed Date: 06/30/2005.

Accession Number: 20050707-0244.

Comment Date: 5 p.m. eastern time on Thursday, July 21, 2005.

Docket Numbers: ER99-230-009; ER03-762-009; ER03-533-002.

Applicants: Alliant Energy Corporate Services, Inc.; Alliant Energy Neenah, LLC.

Description: Alliant Energy Corporate Services, Inc. (AECS), on behalf of itself and Alliant Energy Neenah, LLC (Alliant Energy Neenah), submits a notice of change in status with respect to AECS's and Alliant Energy Neehah's market-based rate authority.

Filed Date: 06/30/2005.

Accession Number: 20050707-0238.

Comment Date: 5 p.m. eastern time on Thursday, July 21, 2005.

Docket Numbers: ER99-2774-005.

Applicants: Duke Energy Trading and Marketing, L.L.C.

Description: Duke Energy Trading and Marketing, L.L.C. submits revisions to its market-based rate tariff to include the reporting requirement for changes in status adopted in Order 652.

Filed Date: 06/29/2005.

Accession Number: 20050708-0187.

Comment Date: 5 p.m. eastern time on Wednesday, July 20, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-3790 Filed 7-15-05; 8:45 am]

BILLING CODE 6717-01-P